DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and a vessel that have been placed on OFAC's List of Specially Designated Nationals and Blocked Persons (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On September 29, 2022, OFAC determined that the property and interests in property subject to U.S. jurisdiction of the following persons are blocked under the relevant sanctions authorities listed below.

BILLING CODE 4810-AL-P

Vessel

1. GAS ALLURE (3E2066) Chemical/Oil Tanker Panama flag; Vessel Registration Identification IMO 9142150; MMSI 352898800 (vessel) [IRAN-EO13846] (Linked To: VIRGO MARINE).

Identified pursuant to E.O. 13846, as property in which VIRGO MARINE, an entity whose property and interest in property are blocked pursuant to E.O. 13846, has an interest.

Dated: September 29, 2022.
Andrea M. Gacki,
Director, Office of Foreign Assets Control, U.S. Department of the Treasury.

[FR Doc. 2022-21538 Filed 10-4-22; 8:45 am]

BILLING CODE 4810-AL-C